DEPARTMENT OF HEALTH AND HUMAN SERVICES

[Document Identifier: OS-0990-new]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before August 10, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@HHS.GOV. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Customer Experience in The Office of the Assistant Secretary for Financial Resources Service Delivery.

Type of Collection: NEW.

OMB No. 0990-XXXX.

Abstract: The U.S. Department of Health and Human Services (HHS) Office of the Assistant Secretary for Financial Resources (ASFR) is requesting 3 year OMB approval for the Customer Experience in The Office of the Assistant Secretary for Financial Resources Service Delivery initiative. The proposed information collection activity provides a means to garner quantitative and qualitative customer and stakeholder feedback in an efficient, timely manner, in accordance with the Administration's commitment to improving access to and service delivery. This feedback will (1) provide insights into customer or stakeholder perceptions, experiences and expectations; (2) uncover issues that create barriers to funding or the system to deliver them; and (3) focus attention on areas where communication, training or changes in operations might improve delivery of such opportunities and services. These voluntary collections will allow for ongoing, collaborative and actionable communications between HHS and its customers and stakeholders. It will also allow feedback to contribute directly to the improvement of program management.

The solicitation of feedback will target areas such as: (1) legibility, readability, comprehension, and accessibility and inclusion of ASFR services; (2) timeliness, appropriateness, and accuracy of information within services delivered by ASFR; (3) efficiency of service delivery, and resolution of issues with service delivery; and (4) any other reasonable area of exploration engendered by this review. Responses will be assessed to plan and inform efforts to improve or maintain the quality of service offered to the public.

The annual collections are low-burden for respondents (based on considerations of total burden hours, total number of respondents, or burden-hours per respondent) and are low-cost for both the respondents and the Federal Government. Moreover, Personally identifiable information (PII) will be collected only to the extent necessary. If this information is not collected, vital feedback from customers and stakeholders on the Agency's services will be unavailable. Such assessments would better equip HHS to develop policies and programs that deliver resources and benefits equitably to all.

Estimated Annualized Burden Table
Type of respondent | Number of respondents | Number responses per respondent | Average burden per response (in hours) | Total burden hours
Post Submission Survey | 1000 | 1 | 15/60 | 250
Post Submission Interview Script | 200 | 1 | 1 | 200
Moderated Usability Test Script | 300 | 1 | 1 | 300
Focus Group Script | 200 | 1 | 1 | 200
Total | 1700 |  |  | 950

Sherrette A. Funn,
Paperwork Reduction Act Reports Clearance Officer, Office of the Secretary.

[FR Doc. 2023-14537 Filed 7-10-23; 8:45 am]

BILLING CODE 4150-04-P